DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 19 additional entities and individuals whose property and interests in property have been blocked pursuant to the Foreign Narcotics Kingpin Designation Act (“Kingpin Act”) (21 U.S.C. 1901-1908, 8 U.S.C. 1182).

DATES: The designation by the Director of OFAC of the six entities and thirteen individuals identified in this notice pursuant to section 805(b) of the Kingpin Act is effective on July 31, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of the Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On July 31, 2008, OFAC designated six additional entities and thirteen additional individuals whose property and interests in property are blocked pursuant to section 805(b) of the Foreign Narcotics Kingpin Designation Act.

The list of additional designees is as follows:

Entities:

1. CAMBIOS EURO LTDA, Carrera 7 No. 115-60 Local F-109, Bogota, Colombia; NIT # 830102482-6 (Colombia); (ENTITY) [SDNTK].

2. COLCHONES SUNMOONS LTDA, Carrera 50 No. 37-45 Sur, Bogota, Colombia; NIT # 830073142-1 (Colombia); (ENTITY) [SDNTK].

3. COMUNICACIONES UNIDAS DE COLOMBIA LTDA (f.k.a. RADIO COMUNICACIONES SUR DEL GUAVIARE LTDA); Calle 38 No. 33 72 Oficina 202, Villavicencio, Colombia; NIT # 822000712-8 (Colombia); (ENTITY) [SDNTK].

4. DIZRIVER Y CIA. S. EN C., Carrera 68B No. 78-24 Unidad 23 Interior 5 Apartamento 402, Bogota, Colombia; NIT # 900013642-1 (Colombia); (ENTITY) [SDNTK].

5. LA MONEDITA DE ORO LTDA, Carrera 7 No. 115-60 Local C227, Bogota, Colombia; NIT # 800149502-9 (Colombia); (ENTITY) [SDNTK].

6. EXCHANGE CENTER LTDA; Avenida Carrera 19 No. 122-49, Local 13, Bogota, Colombia; Calle 183 No. 45-03, Local 328, Bogota, Colombia; NIT #830003608-2 (Colombia) (ENTITY) [SDNTK].

Individuals:

1. CONDE RUBIO, Nancy (a.k.a. “Doris Adriana”; a.k.a. “Alexandra Rubio Silva”; a.k.a. “Maritza”; a.k.a. “Luz Dary”); Colombia; DOB 02 Sep 1972; Alt. DOB 19 Nov 1973; POB Bogota, Colombia; Citizen Colombia; Nationality Colombia; Cedula No. 20645502 (Colombia); (INDIVIDUAL) [SDNTK].

2. CORREDOR IBAGUE, Jose Maria (a.k.a. “Boyaco”; a.k.a. “Chepe”; a.k.a. “Jose Gilberto RODRIGUEZ PEREZ”; a.k.a. “Jose LEONEL”; a.k.a. “Hector Jaime SANCHEZ”; a.k.a. “Angel ORTIZ”; a.k.a. “Carlos Alberto HENAO”; a.k.a. “Jose Adrian RODRIGUEZ BUITRAGO”); Colombia; DOB 17 Dec 1966; POB Santana, Boyaca, Colombia; Citizen Colombia; Nationality Colombia; Cedula No. 4241983 (Colombia); (INDIVIDUAL) [SDNTK].

3. CUESTA LEON, Carlos Pompeyo, c/o COLCHONES SUNMOONS LTDA, Bogota, Colombia; DOB 29 Nov 1965; POB Ubala, Cundinamarca, Colombia; Citizen Colombia; Nationality Colombia; Cedula No. 80375525 (Colombia); (INDIVIDUAL) [SDNTK].

4. CUESTA LEON, Josue (a.k.a. “El Viejo”; a.k.a. “Don Julio”); Colombia; DOB 26 Jan 1970; POB Ubala, Cundinamarca, Colombia; Citizen Colombia; Nationality Colombia; Cedula No. 97610086 (Colombia); (INDIVIDUAL) [SDNTK].

5. CULMA SUNZ, Bladimir (a.k.a. CULMAN SANZ, Bladimir; a.k.a. “Vladimir”); Colombia; DOB 23 Sep 1979; POB El Castillo, Meta, Colombia; Citizen Colombia; Nationality Colombia; Cedula No. 86068233 (Colombia); (INDIVIDUAL) [SDNTK].

6. DIAZ OREJUELA, Miguel Angel, c/o CAMBIOS EURO LTDA, Bogota, Colombia; c/o DIZRIVER Y CIA. S. EN C., Bogota, Colombia; DOB 15 May 1963; POB Bogota, Colombia; Citizen Colombia; Nationality Colombia; Cedula No. 17412428 (Colombia); Passport AI481119 (Colombia); (INDIVIDUAL) [SDNTK].

7. FARFAN SUAREZ, Alexander (a.k.a. “Enrique Gafas”); Colombia; DOB 12 Feb 1973; POB San Jose del Guaviare, Guaviare, Colombia; Citizen Colombia; Nationality Colombia; Cedula No. 86007030 (Colombia); (INDIVIDUAL) [SDNTK].

8. GALLEGO RUBIO, Maribel (a.k.a. “Maritza”; a.k.a. “Mery”); Colombia; DOB 09 Apr 1984; POB Acacias, Meta, Colombia; Citizen Colombia; Nationality Colombia; Cedula No. 30946062 (Colombia); Passport AJ834783 (Colombia); (INDIVIDUAL) [SDNTK].

9. GUTIERREZ VERGARA, Luz Mery, Colombia; DOB 26 Apr 1977; POB Ubala, Cundinamarca, Colombia; Citizen Colombia; Nationality Colombia; Cedula No. 40442724 (Colombia); (INDIVIDUAL) [SDNTK].

10. MORALES LOAIZA, Edilma (a.k.a. “Maria Ofelia”; a.k.a. “Marucha”; a.k.a. “Carolina”; a.k.a. “Gladys Gomez Solano”); Colombia; DOB 29 Dec 1974; POB Lejanias, Meta, Colombia; Citizen Colombia; Nationality Colombia; Cedula No. 40356505 (Colombia); (INDIVIDUAL) [SDNTK].

11. PENA AREVALO, Ana Isabel (a.k.a. “Dona Chava”; a.k.a. “Dona Isa”; a.k.a. “Dona Elisa”; a.k.a. “Isabela”); Colombia; DOB 24 Aug 1962; POB Pacho, Cundinamarca, Colombia; Citizen Colombia; Nationality Colombia; Cedula No. 20794356 (Colombia); (INDIVIDUAL) [SDNTK].

12. RUEDA GIL, Camilo (a.k.a. “El Primo”; a.k.a. “El Paisa”; a.k.a. “Muneca”); Colombia; DOB 03 Aug 1969; POB Bogota, Colombia; Citizen Colombia; Nationality Colombia; Cedula No. 79499884 (Colombia); Passport AJ520060 (Colombia); (INDIVIDUAL) [SDNTK].

13. TORRES, Ana Leonor (a.k.a. “Juliana”; a.k.a. “Catalina”; a.k.a. “Cata”; a.k.a. “Maria”); Colombia; DOB 05 Sep 1961; POB Puerto Lopez, Meta, Colombia; Citizen Colombia; Nationality Colombia; Cedula No. 21243624 (Colombia); (INDIVIDUAL) [SDNTK].

Dated: July 31, 2008.
Adam J. Szubin,
Director, Office of Foreign Assets Control.

[FR Doc. E8-17978 Filed 8-5-08; 8:45 am]

BILLING CODE 4811-45-P